DEPARTMENT OF HOMELAND SECURITY

Federal Emergency Management Agency

[Docket ID FEMA-2012-0027; OMB No. 1660-0054]

Agency Information Collection Activities: Submission for OMB Review; Comment Request, Assistance to Firefighters Grant Program-Grant Application Supplemental Information

AGENCY: Federal Emergency Management Agency, DHS.

ACTION: Notice.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

There has been a change in the respondents, estimated burden, and estimated total annual burden hours from previous 30 day Notice. This change is a result of including the time, effort, and resources to collect information to be used by respondents as well as the significant decline in respondents expected.

DATES: Comments must be submitted on or before December 28, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATON:

Collection of Information

Title: Assistance to Firefighters Grant Program-Grant Application Supplemental Information.

Type of Information Collection: Revision of a currently approved information collection.

OMB Number: OMB No. 1660-0054.

FEMA Forms: FEMA Form 080-2, AFG Application (General Questions and Narrative); FEMA Form 080-2a, Activity Specific Questions for AFG Vehicle Applicants; F FEMA Form 080-2b, Activity Specific Questions for AFG Operations and Safety Applications; FEMA Form 080-3, Activity Specific Questions for Fire Prevention and Safety Applicants; FEMA Form 080-3a, Fire Prevention and Safety; and FEMA Form 080-3b, Research and Development

Abstract: The FEMA forms for this collection are used to objectively evaluate each of the anticipated applicants to determine which applicants' submission in each of the AFG activities are close to the established program priorities. FEMA also uses the information to determine eligibility and whether the proposed use of funds meets the requirements and intent of AFG legislation.

Affected Public: State, Local or Tribal Government, and Not-for-profit institutions.

Estimated Number of Respondents: 28,010.

Estimated Total Annual Burden Hours: 201,130 hours.

Frequency of Response: One Time.

Dated: November 21, 2012.
Charlene D. Myrthil,
Director, Records Management Division, Mission Support Bureau, Federal Emergency Management Agency, Department of Homeland Security.

[FR Doc. 2012-28841 Filed 11-27-12; 8:45 am]

BILLING CODE 9111-78-P